ENVIRONMENTAL PROTECTION AGENCY

[EPA-HQ-OAR-2021-0669; FRL-9116-04-OAR]

Phasedown of Hydrofluorocarbons: Notice of 2024 Allowance Allocations for Production and Consumption of Regulated Substances Under the American Innovation and Manufacturing Act of 2020, and Notice of Final Administrative Consequences

AGENCY: Environmental Protection Agency (EPA).

ACTION: Notice.

SUMMARY: The Environmental Protection Agency (EPA) has issued calendar year 2024 allowances for the production and consumption of hydrofluorocarbons in accordance with the Agency's regulations. This issuance of allowances is undertaken pursuant to the American Innovation and Manufacturing Act, which directs the Environmental Protection Agency by October 1 of each calendar year to determine the quantity of production and consumption allowances for the following calendar year. In this notice, the Agency is also providing notice of separate Agency actions finalizing administrative consequences for certain entities. These administrative consequences were applied to withhold, retire, and revoke entities' remaining calendar year 2023 and newly issued calendar year 2024 allowances in accordance with the administrative consequence regulatory provisions.

FOR FURTHER INFORMATION CONTACT: Andy Chang, U.S. Environmental Protection Agency, Stratospheric Protection Division, telephone number: 202-564-6658; email address: chang.andy@epa.gov. You may also visit EPA's website at https://www.epa.gov/climate-hfcs-reduction for further information.

SUPPLEMENTARY INFORMATION: Subsection (e)(2)(D)(i) of the American Innovation and Manufacturing Act of 2020 (AIM Act) directs the Environmental Protection Agency (EPA) to determine, by October 1 of each calendar year, the quantity of allowances for the production and consumption of regulated substances that may be used for the following calendar year. EPA has codified the production and consumption baselines and phasedown schedules for regulated substances in 40 CFR 84.7. Under the phasedown schedule, for 2024, total production allowances may not exceed 229,521,263 metric tons of exchange value equivalent (MTEVe) and total consumption allowances may not exceed 181,522,990 MTEVe.

EPA regulations at 40 CFR part 84, subpart A, outline the process by which the Agency determines the number of allowances each entity is allocated. EPA allocated allowances consistent with this process for calendar year 2024, and has posted entity-specific allowance allocations on its website at https://www.epa.gov/climate-hfcs-reduction. An allowance allocated under the AIM Act does not constitute a property right and is a limited authorization for the production or consumption of a regulated substance.

Note that while allowances may be transferred or conferred once they are allocated, they can only be expended to cover imports and production in the calendar year for which they are allocated. In other words, calendar year 2024 allowances may only be expended for production and import of bulk HFCs between January 1, 2024, and December 31, 2024.

Application-Specific Allowances

EPA established the methodology for issuing application-specific allowances in the 2021 final rule titled Phasedown of Hydrofluorocarbons: Establishing the Allowance Allocation and Trading Program Under the American Innovation and Manufacturing Act (86 FR 55116) and codified the methodology for issuing allowance allocations in 40 CFR 84.13. Because application-specific allowances can be expended to either produce or import HFCs, and application-specific allowances must be provided from within the overall annual production and consumption caps, EPA subtracts the amount of application-specific allowances allocated from both the production and consumption general allowance pools. EPA issues application-specific allowances to end users in five applications established by the AIM Act: propellants in metered dose inhalers (MDIs), defense sprays, structural composite preformed polyurethane foam for marine use and trailer use, etching of semiconductor material or wafers and the cleaning of chemical vapor deposition chambers within the semiconductor manufacturing sector, and onboard aerospace fire suppression. Additionally, EPA issues application-specific allowances to the U.S. Department of Defense for mission-critical military end uses.

EPA's 2023 final rule titled Phasedown of Hydrofluorocarbons: Allowance Allocation Methodology for 2024 and Later Years (88 FR 46836), updated the methodology for how the Agency would issue production and consumption allowances for 2024 through 2028. These updates are codified in 40 CFR 84.9 (production) and 40 CFR 84.11 (consumption), and EPA is issuing allowances to entities who meet the criteria in the regulations, including those who were previously issued consumption allowances as new market entrants pursuant to 40 CFR 84.15.

EPA's final calculations for allocation of allowances for each entity on September 29, 2023, follows below. EPA followed the methodology from the applicable regulations in determining allocations, i.e., 40 CFR 84.13 for application-specific allowances, 40 CFR 84.9 for production allowances, and 40 CFR 84.11 for consumption allowances.

Applying the methodology codified in 40 CFR 84.13, EPA allocated the number of application-specific allowances shown in Table 1.

Table 1—Number of Calendar Year 2024 Application-Specific Allowances Allocated per Entity
Entity | Application | Application- specific allowances (MTEVe) allocated
Analog devices | Semiconductors | 18,130.0
Applied Materials | Semiconductors | 10,666.7
Armstrong Pharmaceuticals | Propellants in MDIs | 230,001.2
ASML US | Semiconductors | 1,033.8
AstraZeneca Pharmaceuticals | Propellants in MDIs | 3,848.9
Aurobindo Pharma USA | Propellants in MDIs | 28,316.9
Broadcom | Semiconductors | 213.1
Compsys | Structural Composite Preformed Polyurethane Foam | 19,928.6
Defense Technology | Defense Sprays | 1,537.4
Diodes Incorporated | Semiconductors | 2,584.5
General Electric | Semiconductors | 73.9
GlaxoSmithKline | Propellants in MDIs | 523,906.9
GlobalFoundries | Semiconductors | 152,916.2
Guardian Protective Devices | Defense Sprays | 7,467.0
Hitachi High-Tech America | Semiconductors | 537.9
IBM Corporation | Semiconductors | 369.4
Intel Corporation | Semiconductors | 597,502.0
Invagen Pharmaceuticals | Propellants in MDIs | 156,427.2
Jireh Semiconductor | Semiconductors | 1,600.2
Keysight Technologies | Semiconductors | 537.7
Kindeva Drug Delivery | Propellants in MDIs | 335,693.4
LA Semiconductor | Semiconductors | 2,584.5
Lam Research Corp | Semiconductors | 182,210.4
Lupin | Propellants in MDIs | 21,415.7
Medtronic Tempe Campus | Semiconductors | 457.1
Microchip Technology | Semiconductors | 43,757.2
Micron Technology | Semiconductors | 40,557.8
Newport Fab DBA TowerJazz | Semiconductors | 6,414.4
Northrop Grumman Corporation | Semiconductors | 2,116.0
NXP Semiconductor | Semiconductors | 72,169.2
Odin Pharmaceuticals | Propellants in MDIs | 1,075.7
Polar Semiconductor | Semiconductors | 11,718.5
Proteng Distribution | Onboard Aerospace Fire Suppression | 6,723.4
Qorvo Texas | Semiconductors | 1,065.3
Raytheon Technologies | Onboard Aerospace Fire Suppression | 1,535.4
Renesas Electronics America | Semiconductors | 1,065.3
Samsung Austin Semiconductor | Semiconductors | 334,439.8
Security Equipment Corporation | Defense Sprays | 53,652.3
Semiconductor Components Industries DBA ON Semiconductor | Semiconductors | 19,001.0
SkyWater Technology | Semiconductors | 18,718.8
Skyworks Solutions | Semiconductors | 536.8
Taiwan Semiconductor Manufacturing Company Arizona Corporation (TSMC Arizona Corporation) | Semiconductors | 34,250.1
Texas Instruments | Semiconductors | 193,836.7
The Research Foundation for The State University of New York OBO SUNY Polytechnic Institute | Semiconductors | 1,034.4
Tokyo Electron America | Semiconductors | 558.8
Tower Semiconductor San Antonio | Semiconductors | 8,502.2
UDAP Industries | Defense Sprays | 37,629.1
Wabash National Corporation | Structural Composite Preformed Polyurethane Foam | 66,340.0
WaferTech | Semiconductors | 18,103.3
Wolfspeed | Semiconductors | 48,648.1
X-FAB Texas | Semiconductors | 2,432.6
Department of Defense | Mission-critical Military End Uses | 2,511,081.5
Total Issued | All | 5,836,924.3

EPA has denied requests for application-specific allowances from Apple Inc. and Zarc International, Inc. because they are ineligible under 40 CFR 84.13. The requests were ineligible for at least one of the following reasons:

(1) Did not report purchases of regulated substances in the past three years; or

(2) Failed to submit a request by the deadline.

General Pool Allowances for Production

Applying the methodology codified in 40 CFR 84.9, EPA allocated the number of production allowances shown in Table 2.

Table 2—Number of Calendar Year 2024 Production Allowances Allocated per Entity
Entity | Production allowances allocated (MTEVe)
Application-specific allowances | ᵃ 5,836,924.3
Arkema | 26,990,669.0
Chemours | 50,038,369.2
Honeywell International | 113,275,864.9
Iofina Chemical | 1,160.9
Mexichem Fluor DBA Koura | 33,378,274.7
Total Issued | 229,521,263.0
ᵃ See Table 1; this value corresponds to the total number of application-specific allowances allocated.

General Pool Allowances for Consumption

Applying the methodology codified in 40 CFR 84.11, EPA allocated the number of consumption allowances shown in Table 3.

Table 3—Number of Calendar Year 2024 Consumption Allowances Allocated per Entity
Entity | Consumption allowances allocated (MTEVe)
Application-specific allowances | ᵃ 5,836,924.3
A.C.S. Reclamation & Recovery (Absolute Chiller Services) | 128,987.8
Ability Refrigerants | 128,987.8
ACT Commodities | 50.4
Advance Auto Parts | 461,215.3
Advanced Specialty Gases | 184,102.8
AFK & Co | 124,689.8
AFS Cooling | 128,987.8
A-Gas | 2,199,784.7
Air Liquide USA | 321,682.9
AllCool Refrigerant Reclaim | 128,987.8
American Air Components | 128,987.8
Arkema | 20,051,844.9
Artsen | 663,053.3
Automart Distributors DBA Refrigerant Plus | 128,987.8
AutoZone Parts | 1,304,000.7
AW Product Sales & Marketing | 77,991.8
Bluon | 21,590.6
CC Packaging | 125,118.2
Chemours | 22,115,332.4
Chemp Technology | 128,987.8
ChemPenn | 14,336.2
ComStar International | 232,510.8
Creative Solution | 128,987.8
Cross World Group | 128,987.8
Daikin America | 2,013,820.3
EDX Industry | 370,884.7
Electronic Fluorocarbons | 67,293.9
Fireside Holdings DBA American Refrigerants | 128,973.9
First Continental International | 496,747.8
FluoroFusion Specialty Chemicals | 1,647,053.3
Freskoa USA | 128,987.8
GlaxoSmithKline | 347,339.2
Golden Refrigerant | 128,987.8
Harp USA | 493,996.4
Honeywell International | 53,136,510.9
Hudson Technologies | 1,928,081.5
Hungry Bear | 128,987.8
ICool USA | 2,198,406.6
IGas Holdings | 16,846,810.7
Iofina Chemical | 817.1
Kidde-Fenwal | 128,987.8
Lenz Sales & Distribution | 716,447.4
Lina Trade | 128,987.8
Linde | 343,607.9
Matheson Tri-Gas | 22,015.7
MEK Chemical Corporation | 53,572.5
Meraki Group | 128,987.8
Metalcraft | 103,835.2
Mexichem Fluor DBA Koura | 16,441,211.7
Mondy Global | 205,649.7
National Refrigerants | 12,780,590.6
Nature Gas Import and Export | 528,873.0
North American Refrigerants | 128,987.8
O23 Energy Plus | 128,987.8
Perfect Score Too DBA Perfect Cycle | 24,427.9
Reclamation Technologies | 256,685.4
Resonac America (formerly Showa Chemicals of America) | 42,851.2
RGAS (formerly listed as Combs Gas) | 2,951,990.2
RMS of Georgia | 1,063,455.0
Sciarra Laboratories | 5,604.6
SDS Refrigerant Services | 128,987.8
Solvay Fluorides | 711,375.5
Summit Refrigerants | 128,987.8
SynAgile Corporation | 725.8
Technical Chemical | 2,203,622.1
TradeQuim | 128,987.8
Transocean Offshore Deepwater Drilling | 11.0
Tulstar Products | 473,694.4
Tyco Fire Products | 128,987.8
USA United Suppliers of America DBA USA Refrigerants | 273,401.8
USSC Acquisition Corp | 84,777.8
Walmart | 1,471,574.6
Waysmos USA | 361,839.8
Wego Chemical Group | 36,492.6
Weitron | 4,089,895.7
Wesco HMB | 128,987.8
Wilhelmsen Ships Service | 26,063.9
Total Issued | 181,522,990.0
ᵃ See Table 1; this value corresponds to the total number of application-specific allowances allocated.

Administrative Consequences

Separate from the allocation of calendar year 2024 allowances, EPA also took administrative consequences against certain entities. Each administrative consequence is an independent stand-alone action, but for administrative efficiency EPA is providing notice of these independent actions through this notice as well. The requirements surrounding administrative consequences are codified in 40 CFR 84.35. Using this authority, EPA can retire, revoke, or withhold the allocation of allowances, or ban an entity from receiving, transferring, or conferring allowances. A retired allowance is one that must go unused and expire at the end of the year; a revoked allowance is one that EPA takes back from an allowance holder and redistributes to all the other allowance holders; and a withheld allowance is one that is retained by the Agency until an allowance holder that has failed to meet a regulatory requirement comes back into compliance, at which point EPA allocates it to the allowance holder. A withheld allowance could become a revoked allowance if the allowance holder fails to meet the regulatory requirement at issue within the timeframe specified by EPA.¹ More information on EPA's approach to administrative consequences can be found at 86 FR 55168.

¹ Administrative consequences that the Agency has finalized can be found here: https://www.epa.gov/climate-hfcs-reduction/administrative-consequences-under-hfc-allocation-rule.

EPA finalized administrative consequences for certain entities that were allocated consumption allowances, listed in Table 3 for calendar year 2024, effective concurrently with the issuance of calendar year 2024 allowances. Specifically, the following entities failed to submit complete HFC reports as required in 40 CFR 84.31 and therefore EPA has withheld a portion of their consumption allowances until the missing reports are filed and verified by EPA: Air Liquide USA; Creative Solution; and Matheson Tri-gas, Inc.

The following entities imported regulated HFCs without expending the requisite number of consumption allowances at the time of import and therefore EPA has retired and/or revoked consumption allowances commensurate with the quantities of regulated substances imported without allowances: American Air Components; AFK & Co.; Artsen; Bluon, Inc.; Electronic Fluorocarbons; Fluorofusion Specialty Chemicals; and Resonac America, Inc. Lastly, Honeywell International produced and imported regulated substances without expending the requisite number of consumption allowances at the time of production or import.

In some of these cases, EPA finalized administrative consequences that totaled more than was allocated to an entity. For example, American Air Components, Bluon, Inc., and Resonac America, Inc. imported regulated HFCs without the necessary allowances at the time of import in such quantities that exceed their initial allocation of calendar year 2024 allowances. With respect to one entity, the Agency decided to apply the administrative consequence across multiple years. EPA made this determination given the size of the administrative consequence and as a result of considerations related to the step reduction in 2024 and implications for the market as a whole regarding access to chemicals that are anticipated to be impacted by EPA HFC regulations. A summary of these administrative consequences is included in Table 4.

Table 4—Summary of Administrative Consequences Effective on September 29, 2023, Pursuant to 40 CFR 84.35
Entity | Number of affected allowances (MTEVe) | Applicable year(s) | Administrative consequence action | Reasoning
American Air Components | 208,516.5 ᵃ 104,258.3 | 2024 and future years as needed 2025 and future years as needed | Retire Revoke. | Imported regulated HFCs without expending requisite number of allowances; Will retire and revoke allowances until the full administrative consequence is covered.
AFK & Co | 5,701.9 ᵃ 2,851.0 | 2024 2024 | Retire Revoke. | Imported regulated HFCs without expending requisite number of allowances.
Artsen | 346.7 ᵃ 173.4 | 2024 2024 | Retire Revoke. | Imported regulated HFCs without expending requisite number of allowances.
Bluon | 575,800.7 ᵃ 288,855.8 | 2024 and future years as needed As early as 2025 and future years as needed | Retire Revoke. | Imported regulated HFCs without expending requisite number of allowances; Will retire and revoke allowances until the full administrative consequence is covered.
Electronic Fluorocarbons | 64,931.9 ᵃ 32,466.0 | 2023 2024 | Retire Revoke. | Imported regulated HFCs without expending requisite number of allowances.
Fluorofusion Specialty Chemicals | ᵃ 5,505.2 | 2024 | Revoke | Imported regulated HFCs without expending requisite number of allowances.
Resonac America | 200,070.5 ᵃ 100,035.3 | 2024 and future years as needed As early as 2025 and future years as needed | Retire Revoke. | Imported regulated HFCs without expending requisite number of allowances; Will retire and revoke allowances until the full administrative consequence is covered.
Honeywell International | ᵃ 231,334.0 ᵃ 462,668.1 ᵃ 925,336.2 ᵃ 1,388,004.3 ᵃ 1,619,338.4 | 2024 2025 2026 2027 2028 | Revoke Revoke. Revoke. Revoke. Revoke. | Produced and imported HFCs without expending requisite number of allowances; ᵇ Will spread the administrative consequence over five years.
Air Liquide USA | 64,336.6 | 2024 | Withhold | Failure to submit complete HFC reports as required in 40 CFR 84.31.
Creative Solution | 25,797.6 | 2024 | Withhold | Failure to submit complete HFC reports as required in 40 CFR 84.31.
Matheson Tri-Gas | 4,403.1 | 2024 | Withhold | Failure to submit complete HFC reports as required in 40 CFR 84.31.
ᵃ As stated in the HFC Allocation Framework Rule (86 FR 55116), EPA explained it would take a 50% premium in first instances of administrative consequences. These values correspond to 50% of the full amount of consumption without requisite allowances at the time of production and/or import.
ᵇ EPA only finalized administrative consequences for Honeywell International that affect the company's consumption allowances, since the company did not produce regulated substances in a quantity that exceeded the quantity of available production allowances that it had in its possession.

The allowance adjustments by way of withholding, retiring, and/or revoking a portion of entities' calendar year 2024 allowances effective September 29, 2023, are reflected below in Table 5.

Table 5—Calendar Year 2024 Allowances Adjusted Through Administrative Consequences Effective September 29, 2023
Entity | Number of withheld consumption allowances (MTEVe) | Number of retired consumption allowances (MTEVe) | Number of revoked consumption allowances (MTEVe)
Air Liquide USA | 64,336.6 |  |
Creative Solution | 25,797.6 |  |
Matheson Tri-Gas | 4,403.1 |  |
Electronic Fluorocarbons |  |  | 32,466.0
Honeywell International |  |  | 231,334.0
AFK & Co |  | 5,701.9 | 2,851.0
American Air Components |  | 128,987.8 |
Artsen |  | 346.7 | 173.4
Bluon |  | 21,590.6 |
Fluorofusion Specialty Chemicals |  |  | 5,505.2
Resonac America |  | 42,851.2 |

Adjustments to Consumption Allowances

EPA notes that entities in Table 4 who either imported or produced (or both) without expending the requisite number of consumption allowances at the time of production or import were not eligible to receive allowances that were redistributed as a result of allowances revoked for calendar year 2024. Further, an entity is not eligible to receive redistributed allowances if they were subject to administrative consequences that resulted in the revocation of allowances that contributed to the overall total of allowances being redistributed at the time. For example, if EPA revoked 50 MTEVe allowances from company A and 50 MTEVe allowances from company B, effective on the same day, EPA's redistribution of that single pool of 100 MTEVe allowances would go to all general pool allowances holders except company A and company B. This applies regardless of whether the revocation happens in one year or over multiple years. However, entities who only had allowances withheld by the Agency as a result of failure to comply with certain HFC reporting requirements as contained in 40 CFR 84.31 were eligible to receive allowances that were redistributed as a result of allowances revoked for calendar year 2024. For 2024, the total number of revoked and redistributed allowances is 272,329.6 MTEVe, which are being apportioned to eligible consumption allowance holders based on their relative market share, and the total number of retired allowances in 2024 is 199,478.2 MTEVe.

Table 6 reflects consumption allowance totals available to each entity as of September 29, 2023, after taking into account the administrative consequences shown in Table 5.

Table 6—Total Number of Calendar Year 2024 Consumption Allowances Available to Each Entity as of September 29, 2023, Adjusted for Administrative Consequences
Entity | Available consumption allowances, adjusted for administrative consequences (MTEVe)
Application-specific allowances | ᵃ 5,836,924.3
A.C.S. Reclamation & Recovery (Absolute Chiller Services) | 129,280.9
Ability Refrigerants | 129,280.9
ACT Commodities | 50.5
Advance Auto Parts | 462,263.3
Advanced Specialty Gases | 184,521.1
AFK & Co. | 116,136.9
AFS Cooling | 129,280.9
A-Gas | 2,204,783.0
Air Liquide USA | 258,077.2
AllCool Refrigerant Reclaim | 129,280.9
American Air Components | 0.0
Arkema | 20,097,406.2
Artsen | 662,533.2
Automart Distributors DBA Refrigerant Plus | 129,280.9
AutoZone Parts | 1,306,963.6
AW Product Sales & Marketing | 78,169.0
Bluon | 0.0
CC Packaging | 125,402.5
Chemours | 22,165,582.4
Chemp Technology | 129,280.9
ChemPenn | 14,368.8
ComStar International | 233,039.1
Creative Solution | 103,483.3
Cross World Group | 129,280.9
Daikin America | 2,018,396.1
EDX Industry | 371,727.4
Electronic Fluorocarbons | 34,827.9
Fireside Holdings DBA American Refrigerants | 129,266.9
First Continental International | 497,876.5
FluoroFusion Specialty Chemicals | 1,641,548.1
Freskoa USA | 129,280.9
GlaxoSmithKline | 348,128.4
Golden Refrigerant | 129,280.9
Harp USA | 495,118.8
Honeywell International | 52,905,176.9
Hudson Technologies | 1,932,462.4
Hungry Bear | 129,280.9
ICool USA | 2,203,401.8
IGas Holdings | 16,885,089.6
Iofina Chemical | 819.0
Kidde-Fenwal | 129,280.9
Lenz Sales & Distribution | 718,075.3
Lina Trade | 129,280.9
Linde | 344,388.6
Matheson Tri-Gas | 17,662.6
MEK Chemical Corporation | 53,694.2
Meraki Group | 129,280.9
Metalcraft | 104,071.1
Mexichem Fluor DBA Koura | 16,478,569.0
Mondy Global | 206,117.0
National Refrigerants | 12,809,630.4
Nature Gas Import and Export | 530,074.7
North American Refrigerants | 129,280.9
O23 Energy Plus | 129,280.9
Perfect Score Too DBA Perfect Cycle | 24,483.4
Reclamation Technologies | 257,268.6
Resonac America (formerly Showa Chemicals of America) | 0.0
RGAS (formerly listed as Combs Gas) | 2,958,697.6
RMS of Georgia | 1,065,871.4
Sciarra Laboratories | 5,617.3
SDS Refrigerant Services | 129,280.9
Solvay Fluorides | 712,991.9
Summit Refrigerants | 129,280.9
SynAgile Corporation | 727.4
Technical Chemical | 2,208,629.1
TradeQuim | 129,280.9
Transocean Offshore Deepwater Drilling | 11.0
Tulstar Products | 474,770.7
Tyco Fire Products | 129,280.9
USA United Suppliers of America DBA USA Refrigerants | 274,023.0
USSC Acquisition Corp | 84,970.4
Walmart | 1,474,918.3
Waysmos USA | 362,662.0
Wego Chemical Group | 36,575.5
Weitron | 4,099,188.7
Wesco HMB | 129,280.9
Wilhelmsen Ships Service | 26,123.1
Total Available | 181,228,974.5

Judicial Review

The AIM Act provides that certain sections of the Clean Air Act (CAA) “shall apply to” the AIM Act and actions “promulgated by the Administrator of [EPA] pursuant to [the AIM Act] as though [the AIM Act] were expressly included in title VI of [the CAA].” 42 U.S.C. 7675(k)(1)(C). Among the applicable sections of the CAA is section 307, which includes provisions on judicial review. Section 307(b)(1) provides, in part, that petitions for review must only be filed in the United States Court of Appeals for the District of Columbia Circuit: (i) When the agency action consists of “nationally applicable regulations promulgated, or final actions taken, by the Administrator,” or (ii) when such action is locally or regionally applicable, but “such action is based on a determination of nationwide scope or effect and if in taking such action the Administrator finds and publishes that such action is based on such a determination.” For locally or regionally applicable final actions, the CAA reserves to the EPA complete discretion whether to invoke the exception in (ii).

The issuance of calendar year 2024 allowances for the production and consumption of hydrofluorocarbons herein noticed is “nationally applicable” within the meaning of CAA section 307(b)(1). The AIM Act imposes a national cap on the total number of allowances available for each year for all entities nationwide. 42 U.S.C. 7675(e)(2)(B)-(D). For 2024, there was a national pool of 229,521,263 production allowances and 181,522,990 consumption allowances available to distribute. The allocation action noticed herein distributed that finite set of allowances consistent with the methodology EPA established in the nationally applicable framework rule. As such, the allowance allocation is the division and assignment of a single, nationwide pool of HFC allowances to entities across the country according to the uniform, national methodology established in EPA's regulations. Each entity's allowance allocation is a relative share of that pool; thus, any additional allowances awarded to one entity directly affects the allocations to others.

In the alternative, to the extent a court finds the final action to be locally or regionally applicable, the Administrator is exercising the complete discretion afforded to him under the CAA to make and publish a finding that the allocation action is based on a determination of “nationwide scope or effect” within the meaning of CAA section 307(b)(1).² In deciding to invoke this exception, the Administrator has taken into account a number of policy considerations, including his judgment regarding the benefit of obtaining the D.C. Circuit's authoritative centralized review, rather than allowing development of the issue in other contexts, in order to ensure consistency in the Agency's approach to allocation of allowances in accordance with EPA's national regulations in 40 CFR part 84. The final action treats all affected entities consistently in how the 40 CFR part 84 regulations are applied. The allowance allocation is the division and assignment of a single, nationwide pool of HFC allowances to entities across the country according to the uniform, national methodology established in EPA's regulations, and each entity's allowance allocation is a relative share of that pool; thus, any additional allowances awarded to one entity directly affect the allocations to others. The Administrator finds that this is a matter on which national uniformity is desirable to take advantage of the D.C. Circuit's administrative law expertise and facilitate the orderly development of the basic law under the AIM Act and EPA's implementing regulations. The Administrator also finds that consolidated review of the action in the D.C. Circuit will avoid piecemeal litigation in the regional circuits, further judicial economy, and eliminate the risk of inconsistent results for different regulated entities. The Administrator also finds that a nationally consistent approach to the allocation of allowances constitutes the best use of agency resources. The Administrator is publishing his finding that the allocation action is based on a determination of nationwide scope or effect in the Federal Register as part of this notice in addition to inclusion on the website announcing allocations.

² In the report on the 1977 Amendments that revised section 307(b)(1) of the CAA, Congress noted that the Administrator's determination that the “nationwide scope or effect” exception applies would be appropriate for any action that has a scope or effect beyond a single judicial circuit. See H.R. Rep. No. 95-294 at 323, 324, reprinted in 1977 U.S.C.C.A.N. 1402-03.

For these reasons, the final action of the Agency allocating hydrofluorocarbon allowances to entities located throughout the country is nationally applicable or, alternatively, the Administrator is exercising the complete discretion afforded to him by the CAA and finds that the final action is based on a determination of nationwide scope or effect for purposes of CAA section 307(b)(1) and is hereby publishing that finding in the Federal Register.

Under section 307(b)(1) of the CAA, petitions for judicial review of this allocation action must be filed in the United States Court of Appeals for the District of Columbia Circuit by December 18, 2023. Under section 307(b)(1) of the CAA, petitions for judicial review of the administrative consequence actions noticed herein must be filed in the United States Court of Appeals for the appropriate circuit by December 18, 2023. Filing a petition for reconsideration by the Administrator of this final rule does not affect the finality of this action for purposes of judicial review nor does it extend the time within which a petition for judicial review may be filed and shall not postpone the effectiveness of such rule or action. This action may not be challenged later in proceedings to enforce its requirements. See CAA section 307(b)(2).

Paul Gunning,
Director, Office of Atmospheric Protection.

[FR Doc. 2023-22163 Filed 10-18-23; 8:45 am]

BILLING CODE 6560-50-P